DEPARTMENT OF HEALTH AND HUMAN SERVICES

Food and Drug Administration

[Docket No. FDA-2017-N-0001]

Patient Engagement Advisory Committee; Amendment of Notice

AGENCY: Food and Drug Administration, HHS.

ACTION: Notice; amendment.

SUMMARY: The Food and Drug Administration (FDA) is announcing amendments to the notice of meeting of the Patient Engagement Advisory Committee. This meeting was announced in the Federal Register of July 26, 2017. The amendments are being made to reflect time changes in the DATES and Procedure sections and to add Webcast Information to the document. There are no other changes.

FOR FURTHER INFORMATION CONTACT: Letise Williams, Center for Devices and Radiological Health, Food and Drug Administration, 10903 New Hampshire Ave., Bldg. 66, Rm. 5441, Silver Spring, MD 20993-0002, 301-796-8398; or FDA Advisory Committee Information Line, 1-800-741-8138 (301-443-0572 in the Washington, DC area), code PEAC. Please call the Information Line for up-to-date information on this meeting.

SUPPLEMENTARY INFORMATION: In the Federal Register of July 26, 2017 (82 FR 34681), FDA announced that a meeting of the Patient Engagement Advisory Committee would be held on October 11 and 12, 2017. On page 34681, in the third column, the DATES section is changed to reflect the time of these meetings on the announced dates.

On page 34682, in the first column, in the Procedure section, the third sentence is changed to reflect new times for oral presentations on October 11 and 12.

On page 34682, in the second column, a Webcast Information section is added before the last paragraph of the document. The amendments read as follows:

DATES: The meeting will be held on October 11, 2017, from 12:30 p.m. to 6 p.m. and October 12, 2017, from 8 a.m. to 5 p.m.

Procedure: Oral presentations from the public will be scheduled between approximately 2:30 p.m. to 3 p.m. on October 11, 2017, and approximately 1 p.m. to 2:30 p.m. on October 12, 2017.

Webcast Information: This meeting will also be made available to the public via webcast. The links for the webcasts are below: October 11, 2017: “Patient Engagement Advisory Committee Meeting, Day 1,” https://event.webcasts.com/starthere.jsp?ei=1157277&tp_key=5580d0c7a5. October 12, 2017: “Patient Engagement Advisory Committee Meeting, Day 2,” Morning Session— https://event.webcasts.com/starthere.jsp?ei=1157280&tp_key=dfcde848fe; and Afternoon Session— https://event.webcasts.com/starthere.jsp?ei=1157282&tp_key=6d832a247e.

This notice is issued under the Federal Advisory Committee Act (5 U.S.C. app. 2) and 21 CFR part 14, relating to the advisory committees.

Dated: September 29, 2017.
Anna K. Abram,
Deputy Commissioner for Policy, Planning, Legislation, and Analysis.

[FR Doc. 2017-21317 Filed 10-3-17; 8:45 am]

BILLING CODE 4164-01-P